DEPARTMENT OF COMMERCE

Submission for OMB Review; Comment Request

The Department of Commerce will submit to the Office of Management and Budget (OMB) for clearance the following proposal for collection of information under the provisions of the Paperwork Reduction Act (44 U.S.C. chapter 35).

Agency: U.S. Census Bureau.

Title: Census Coverage Measurement 2008 Person Interview and Person Interview Reinterview Operations.

OMB Control Number: None.

Form Number(s): None.

Type of Request: New collection.

Burden Hours: 2,636.

Number of Respondents: 15,813.

Average Hours Per Response: 10 minutes.

Needs and Uses: The U.S. Census Bureau requests authorization from the Office of Management and Budget to conduct the Census Coverage Measurement (CCM) Person Interview (PI) and Person Interview Reinterview (PIRI) operations as part of the 2008 Census Dress Rehearsal. The CCM program for the dress rehearsal is a dry run to ensure all planned coverage measurement operations are working as expected, they are integrated internally and that they are coordinated with the appropriate census operations. The CCM operations planned for the dress rehearsal, to the extent possible, will mirror those that will be conducted for the 2010 Census to provide estimates of net coverage error and components of coverage error (omissions and erroneous enumerations) for housing units and persons in housing units. The data collection and matching methodologies for previous coverage measurement programs were designed only to measure net coverage error, which reflects the difference between omissions and erroneous inclusions.

The 2008 CCM PI operations will use a sample of approximately 14,375 housing units split evenly between selected census tracts in San Joaquin County, California; and Fayetteville, North Carolina and nine surrounding counties (Chatham, Cumberland, Harnett, Hoke, Lee, Montgomery, Moore, Richmond, and Scotland). The PIRI operations will be in the same areas and will consist of 1,438 units to make a total of 15,813 units.

The automated PI instrument will be used to collect the following information for persons in housing units only:

1. Roster of people living at the housing unit at the time of the CCM PI Interview.

2. Census Day (April 1, 2008) address information from people who moved into the sample address since Census Day.

3. Other addresses where a person may have been counted on Census Day.

4. Other information to help us determine where a person should have been counted as of Census Day (relative to Census residence rules). For example, enumerators will probe for persons who might have been left off the household roster; ask additional questions about persons who moved from another address on Census Day to the sample address; collect additional information for persons with multiple addresses; and collect information on the addresses of other potential residences for household members.

5. Demographic information for each person in the household on Interview Day or Census Day, including name, date of birth, sex, race, Hispanic Origin, and relationship.

6. Name and above information for any person who has moved out of the sample address since Census Day (if known).

Census will also conduct a quality control operation—PI Reinterview (PIRI) on 10 percent of the PI cases. The purpose of the operation is to confirm that the PI enumerator conducted a PI interview with an actual household member or a valid proxy respondent and conduct a full person interview when falsification is suspected. If PIRI results indicate falsified information by the original enumerator, all cases worked by the original enumerator are reworked by reassigning the cases to a different PI enumerator.

The 2008 CCM Test is needed in order to test the entire operation with all steps as developed from results of previous tests. This is to ensure that they are integrating properly and working as expected. It is also important to test timing of each part of the operation to make sure they coordinated properly with the census operations. This is particularly important because 2008 dress rehearsal is the first time in the 2010 testing cycle that coverage measurement operation for housing units will be conducted.

Affected Public: Individuals or households.

Frequency: One time.

Respondent's Obligation: Mandatory.

Legal Authority: Title 13 U.S.C. Sections 141 and 193.

OMB Desk Officer: Brian Harris-Kojetin, (202) 395-7314.

Copies of the above information collection proposal can be obtained by calling or writing Diana Hynek, Departmental Paperwork Clearance Officer, (202) 482-0266, Department of Commerce, Room 6625, 14th and Constitution Avenue, NW., Washington, DC 20230 (or via the Internet at dhynek@doc.gov).

Written comments and recommendations for the proposed information collection should be sent within 30 days of publication of this notice to Brian Harris-Kojetin, OMB Desk Officer either by fax (202-395-7245) or e-mail (bharrisk@omb.eop.gov).

Dated: November 7, 2007.
Gwellnar Banks,
Management Analyst, Office of the Chief Information Officer.

[FR Doc. E7-22235 Filed 11-13-07; 8:45 am]

BILLING CODE 3510-07-P